DEPARTMENT OF TRANSPORTATION

Coast Guard

46 CFR Part 10

[USCG-2002-13213]

RIN 2115-AG43

Great Lakes Maritime Academy—Eligibility of Certain Graduates for Unrestricted Third-Mate Licenses

AGENCY: Coast Guard, DOT.

ACTION: Direct final rule; confirmation of effective date.

SUMMARY: On October 18, 2002, we published a direct final rule (67 FR 64313). The direct final rule notified the public of our intent to amend minimum service or training requirements for ocean or near coastal steam or motor vessel third mate licenses so that graduation from the Great Lakes Maritime Academy (GLMA) deck curriculum ocean option will qualify an applicant for licensing on both ocean and near coastal vessels. GLMA graduates who do not complete the ocean option or one of the other approved service or training routes will continue to be eligible for licensing only on near coastal vessels. We have not received an adverse comment, or notice of intent to submit an adverse comment, on this rule. Therefore, this rule will go into effect as scheduled.

DATES: The effective date of the direct final rule is confirmed as January 16, 2003.

FOR FURTHER INFORMATION CONTACT: Mr. Donald Kerlin, National Maritime Center, U.S. Coast Guard, 202-493-1001.

Dated: December 20, 2002.
Paul J. Pluta,
Rear Admiral, Coast Guard, Assistant Commandant for Marine Safety, Security and Environmental Protection.

[FR Doc. 02-33016 Filed 12-30-02; 8:45 am]

BILLING CODE 4910-15-U